DEPARTMENT OF THE INTERIOR

Office of the Secretary

Meeting of the Secretarial Commission on Indian Trust Administration and Reform

AGENCY: Office of the Secretary, Interior.

ACTION: Notice of meeting.

SUMMARY: The Secretarial Commission on Indian Trust Administration and Reform (the Commission) will hold a public meeting on September 13 and 14, 2012. The Commission will also host a public facilitated discussion the afternoon of September 12, 2012, on the Fort Berthold Reservation, and a youth outreach session the evening of September 13, 2012, at the United Tribes Technical College.

DATES: The Commission's public meeting will begin at 8 a.m. and end at 5 p.m. on September 13 and 14, 2012. Members of the public who wish to attend should respond by September 7, 2012, to: trustcommission@ios.doi.gov to ensure adequate meeting packets will be made available. The Commission's public facilitated discussion will be held in the afternoon (time to be determined) on September 12, 2012, and the youth outreach session will be held from 7 p.m. to 9 p.m. on September 13, 2012; additional information will be available at: http://www.doi.gov/cobell/commission/index.cfm.

ADDRESSES: The public meeting will be held at the Best Western Ramkota Hotel Bismarck, 800 South Third Street, Bismarck, North Dakota 58504. We encourage you to respond to trustcommission@ios.doi.gov by September 7, 2012. The public facilitated session will be held on the Fort Berthold Indian Reservation and the youth outreach session will be held at the United Tribes Technical College; further information on these locations will be available at http://www.doi.gov/cobell/commission/index.cfm.

FOR FURTHER INFORMATION CONTACT: The Designated Federal Official, Lizzie Marsters, Chief of Staff to the Deputy Secretary, Department of the Interior, 1849 C Street NW., Room 6118, Washington, DC 20240; or email to Lizzie_Marsters@ios.doi.gov.

SUPPLEMENTARY INFORMATION:

Background

The Secretarial Commission on Indian Trust Administration and Reform was established under Secretarial Order No. 3292, dated December 8, 2009. The Commission plays a key role in the Department's ongoing efforts to empower Indian nations and strengthen nation-to-nation relationships.

The Commission will complete a comprehensive evaluation of the Department's management and administration of the trust assets within a two-year period and offer recommendations to the Secretary of the Interior on how to improve in the future. The Commission will:

(1) Conduct a comprehensive evaluation of the Department's management and administration of the trust administration system;

(2) Review the Department's provision of services to trust beneficiaries;

(3) Review input from the public, interested parties, and trust beneficiaries involving a number of regional listening sessions;

(4) Consider the nature and scope of necessary audits of the Department's trust administration system;

(5) Recommend options to the Secretary to improve the Department's management and administration of the trust administration system based on information obtained from the Commission's activities, including whether any legislative or regulatory changes are necessary to permanently implement the recommended improvements; and

(6) Consider the provisions of the American Indian Trust Fund Management Reform Act of 1994 providing for termination of the Office of the Special Trustee for American Indians, and make recommendations to the Secretary regarding termination.

Meeting Details

On Wednesday, September 12, 2012, in the afternoon, the Commission will host a public facilitated discussion to offer opportunities for members of the public to share their concerns about trust management and administration.

On the evening of Thursday, September 13, 2012, the Commission will host a youth outreach session beginning at 7 p.m. to 9 p.m. at the United Tribes Technical College. For additional information please refer to http://www.doi.gov/cobell/commission/index.cfm.

On Thursday, September 13, 2012, and Friday, September 14, 2012, the Commission will hold a public meeting. The following items will be on the agenda for the public meeting.

Thursday, September 13, 2012

• Invocation;

• Welcome, introductions, agenda review;

• Commission operations reports and decision-making;

• Commission review and discussion of preliminary recommendations;

• Initial observations and comments from public regarding Commission recommendations;

• Summary of comments as of August 31, 2012, from Commission outreach letter and survey to DOI employees;

• Panel session regarding hard assets;

• Commissioner reflections and insights from the day; and

• Review of action items from today's discussion.

Friday, September 14, 2012

• Invocation;

• Welcome, introductions, agenda review;

• Reflections from Thursday's deliberations;

• Trust reform and trust models panel session;

• Public comment regarding Commission recommendations and discussions;

• Commission working session to continue development of preliminary recommendations;

• Status update on settlement (proposed);

• Commission discussion of insights and conclusions from morning and afternoon deliberations;

• Planning for next meetings;

• Review action items, meeting accomplishments; and

• Closing blessing, adjourn.

Written comments may be sent to the Designated Federal Official listed in the FOR FURTHER INFORMATION CONTACT section above. To review all materials related to the Commission's work, please refer to http://www.doi.gov/cobell/commission/index.cfm. All meetings are open to the public.

Dated: August 23, 2012.
David J. Hayes,
Deputy Secretary.

[FR Doc. 2012-21248 Filed 8-28-12; 8:45 am]

BILLING CODE 4310-W7-P